POSTAL SERVICE

Mail Classification Schedule Changes Pertaining to Priority Mail International Flat Rate Envelopes and Priority Mail International Small Flat Rate Boxes

AGENCY: Postal Service.

ACTION: Notice.

SUMMARY: The Postal Service hereby provides notice that it has filed a request with the Postal Regulatory Commission to change the Mail Classification Schedule provisions that pertain to Priority Mail International Flat Rate Envelopes and Priority Mail International Small Flat Rate Boxes.

DATES: Effective date: April 14, 2016.

FOR FURTHER INFORMATION CONTACT: Christopher C. Meyerson, 202-268-7820.

SUPPLEMENTARY INFORMATION: On April 7, 2016, the United States Postal Service® filed with the Postal Regulatory Commission (Commission) a requested change to the Mail Classification Schedule provisions concerning Priority Mail International Flat Rate Envelopes and Priority Mail International Small Flat Rate Boxes. Documents pertinent to this request are available at http://www.prc.gov, Docket No. MC2016-118. The Governors' Decision in connection with the above filing is reprinted below.

Stanley F. Mires,
Attorney, Federal Compliance.

Decision of the Governors of the United States Postal Service on Mail Classification Schedule Changes for Priority Mail International Flat Rate Envelopes and Priority Mail International Small Flat Rate Boxes (Governors' Decision No. 16-1)

March 30, 2016

Statement of Explanation and Justification

Pursuant to our authority under section 404(b) and Chapter 36 of title 39, United States Code, the Governors establish classification changes to Priority Mail International Flat Rate Envelopes (PMI FREs) and PMI Small Flat Rate Boxes (PMI SFRBs).

PMI FREs and PMI SFRBs are Postal Service-branded mailing containers available at no additional cost and used by customers to send documents and small merchandise items abroad. Currently, the Postal Service dispatches PMI FREs and PMI SFRBs in the letter post stream, while all other PMI items are dispatched in the parcel post stream. This results in PMI FREs and PMI SFRBs being subject to different market and operational characteristics. The Postal Service intends to change the dispatch stream for PMI FREs and PMI SFRBs to the international parcel post stream. This change would allow PMI FREs and PMI SFRBs to receive expanded access to tracking services and insurance, which are not routinely available for ordinary letter post items absent a special arrangement with the destination postal operator. This change will increase delivery costs since foreign postal operators charge higher rates for delivery of parcels as compared to letter post pieces; however, this change will improve the market features of PMI FREs and PMI SFRBs. We have evaluated the classification changes in this context in accordance with 39 U.S.C. 3632-3633 and 39 CFR 3015.5 and 3015.7. We approve the changes, finding that they are appropriate, and are consistent with the regulatory criteria, as indicated by management.

Order

We direct management to file with the Postal Regulatory Commission appropriate notice of these classification changes. The changes in classification set forth herein shall be effective on June 3, 2016.

By The Governors:

James H. Bilbray

Chairman, Temporary Emergency Committee of the Board of Governors

[FR Doc. 2016-08583 Filed 4-13-16; 8:45 am]

BILLING CODE 7710-12-P